DEPARTMENT OF HEALTH AND HUMAN SERVICES

National Institutes of Health

National Institute on Deafness and Other Communication Disorders; Amended Notice of Meeting

Notice is hereby given of a change in the meeting of the National Institute on Deafness and Other Communications Disorders Special Emphasis Panel, November 2, 2005, 8 a.m. to November 2, 2005, 5 p.m., Residence Inn Bethesda, 7335 Wisconsin Avenue, Bethesda, MD, 20814 which was published in the Federal Register on September 16, 2005, 70 FR 54759-54760.

The meeting will be held at the Bethesda Marriott Suites, 6711 Democracy Blvd., Bethesda, MD 20817, rather than at the Residence Inn Bethesda, as previously reported. The meeting is closed to the public.

Dated: September 22, 2005.
Anthony M. Coelho, Jr.,
Acting Director, Office of Federal Advisory Committee Policy.

[FR Doc. 05-19541 Filed 9-29-05; 8:45 am]

BILLING CODE 4140-01-M